FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. A copy of the agreement is available through the Commission's Web site (www.fmc.gov) or by contacting the Office of Agreements at (202) 523-5793 or tradeanalysis@fmc.gov.

Agreement No.: 201215.

Title: Port of Los Angeles Data Delivery Agreement.

Parties: Port of Los Angeles; PierPass Inc.; APM Terminals Pacific; California United Terminals, Inc.; Eagle Marine Services, Ltd.; Seaside Transportation Services LLC; Trapac Inc.; Yusen Terminals, Inc.; and West basin Container Terminal L.L.C.

Filing Party: David F. Smith, Esq., Cozen O'Connor; 1627 I Street NW., Suite 1100; Washington, DC 20006-4007.

Synopsis: The agreement would provide for delivery of data to the Port of Los Angeles by the participating marine terminal operators and PierPass Inc., and various arrangements associated with that data delivery.

By Order of the Federal Maritime Commission.
Dated: June 11, 2012.
Karen V. Gregory,
Secretary.

[FR Doc. 2012-14539 Filed 6-13-12; 8:45 am]

BILLING CODE P